INTERNATIONAL TRADE COMMISSION

[Inv. No. 337-TA-429]

In the Matter of Certain Bar Clamps, Bar Clamp Pads, and Related Packaging, Display, and Other Materials; Notice of Commission Decision To Extend by One Week the Deadline for Determining Whether To Review an Initial Determination Terminating the Investigation in Part Based on Partial Withdrawal of the Complaint

AGENCY: International Trade Commission.

ACTION: Notice.

SUMMARY: Notice is hereby given that the U.S. International Trade Commission has determined to extend by one week, or until November 9, 2000, the deadline for determining whether to review an initial determination (ID) (Order No. 5) issued by the presiding administrative law judge (ALJ) in the above-captioned investigation.

FOR FURTHER INFORMATION CONTACT: Tina Potuto Kimble, Esq., Office of the General Counsel, U.S. International Trade Commission, telephone 202-205-3116.

SUPPLEMENTARY INFORMATION: The Commission instituted this investigation on March 13, 2000, based on a complaint filed by American Tool Companies, Inc. (“American Tool”) of Hoffman Estates, Illinois, and Peterson Manufacturing Co., Inc. (“Peterson”) of DeWitt, Nebraska (collectively “complainants”). 65 FR 13307.

On September 6, 2000, complainants filed a motion to amend the complaint and notice of investigation asserting that respondents no longer ship infringing product to the United States and do not intend to do so in the future. On September 18, 2000, respondents, Wolfcraft GMbH of Germany and Wolfcraft, Inc. of Itasca, Illinois, filed an opposition to complainants' motion stating that they in fact intend to resume importation of the product in question to the United States. On September 18, 2000, the Commission investigative attorney (IA) filed a response in support of the motion, but argued that it should be construed as a motion for partial termination based on the withdrawal of certain allegations. On September 20, 2000, complainants filed a reply agreeing with IA's suggestion that their motion be construed as one for partial termination. On October 2, 2000, the presiding ALJ issued an ID (Order No. 5) granting complainants' motion for partial withdrawal of the complaint. No petitions for review of the ID were filed.

This action is taken under the authority of section 337 of the Tariff Act of 1930, 19 U.S.C. 1337, and Commission rule 210.42(h)(3), 19 CFR 210.42(h)(3).

Copies of the public version of the ID, and all other nonconfidential documents filed in connection with this investigation, are or will be available for inspection during official business hours (8:45 a.m. to 5:15 p.m.) in the Office of the Secretary, U.S. International Trade Commission, 500 E Street SW, Washington, DC 20436, telephone 202-205-2000. Hearing-impaired persons are advised that information on the matter can be obtained by contacting the Commission's TDD terminal on 202-205-1810. General information concerning the Commission may also be obtained by accessing its Internet server (http://www.usitc.gov).

Issued: November 3, 2000.
By order of the Commission.
Donna R. Koehnke,
Secretary.

[FR Doc. 00-28981 Filed 11-9-00; 8:45 am]

BILLING CODE 7020-02-P